DEPARTMENT OF ENERGY

Federal Energy Regulatory Commission

[Project No. 12635-002]

Moriah Hydro Corporation; Notice of Waiver Period for Water Quality Certification Application

On October 30, 2020, Moriah Hydro Corporation notified the Federal Energy Regulatory Commission that it submitted an application for a Clean Water Act section 401(a)(1) water quality certification to the New York State Department of Environmental Conservation (New York DEC) that same day, in conjunction with the above captioned project. Pursuant to 40 CFR 121.6, we hereby notify New York DEC of the following:

Date of Receipt of the Certification Request: October 30, 2020

Reasonable Period of Time to Act on the Certification Request: One year

Date Waiver Occurs for Failure to Act: October 30, 2021

If New York DEC fails or refuses to act on the water quality certification request by the above waiver date, then the agency certifying authority is deemed waived pursuant to section 401(a)(1) of the Clean Water Act, 33 U.S.C. 1341(a)(1).

Dated: November 13, 2020.
Nathaniel J. Davis, Sr.,
Deputy Secretary.

[FR Doc. 2020-25561 Filed 11-18-20; 8:45 am]

BILLING CODE 6717-01-P